SURFACE TRANSPORTATION BOARD

[Docket No. FD 36773]

Railmark Industrial Railway Inc. d/b/a Railmark Industrial Railway Inc. Mississippi Division—Change in Operator Exemption—Mississippi Central Railroad Co.

Railmark Industrial Railway Inc. d/b/a Railmark Industrial Railway Inc. Mississippi Division (RIR), a non-carrier, has filed a verified notice of exemption under 49 CFR 1150.31 to permit RIR to lease and operate approximately 10 miles of rail line owned by Tishomingo County, Miss. (the County), extending between the Norfolk Southern Railway Company's “Iuka Wye” at milepost 0.0 and the Tri-State Commerce Park at approximately milepost 10.0 in Tishomingo County (the Line). The verified notice states that Mississippi Central Railroad Co. (MSCI) currently holds authority to operate the Line through a lease with the County,¹ but that lease is not being renewed.

¹ See Miss. Cent. R.R.—Amended Lease & Operation Exemption—Line of Tishomingo Cnty., Miss., FD 35258 (Sub-No. 1) (STB served June 11, 2021).

According to the verified notice, RIR and the County are entering an agreement for RIR to lease and operate the Line. RIR further states that as a result of the transaction, RIR will operate the Line and MCSI will be relieved of its obligation.²

² RIR states that MSCI consents to the transfer of its rights to operate the Line to RIR.

This transaction is related to a concurrently filed verified notice of exemption in Railmark Holdings, Inc.—Continuance in Control Exemption—Railmark Industrial Railway, Docket No. FD 36774, in which Railmark Holdings, Inc., seeks to continue in control of RIR upon RIR's becoming a Class III rail carrier.

RIR certifies that the agreement between it and the County does not impose or include an interchange commitment. RIR also certifies that its projected annual revenues as a result of this transaction will not result in its becoming a Class II or Class I rail carrier and that its projected annual revenue will not exceed $5 million.

Under 49 CFR 1150.32(b), a change in operator requires that notice be given to shippers. The verified notice indicates that a copy has been served on Red Industrial Products, the lone shipper on the Line.

The transaction may be consummated on or after June 5, 2024, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than May 29, 2024 (at least seven days before the exemption becomes effective).

All pleadings, referring to Docket No. FD 36773, must be filed with the Surface Transportation Board via e-filing on the Board's website or in writing addressed to 395 E Street SW, Washington, DC 20423-0001. In addition, a copy of each pleading must be served on RIR's representative, Justin J. Marks, Clark Hill PLC, 1001 Pennsylvania Ave. NW, Suite 1300 South, Washington, DC 20004.

According to RIR, this action is categorically excluded from environmental review under 49 CFR 1105.6(c) and from historic preservation reporting requirements under 49 CFR 1105.8(b)(1).

Board decisions and notices are available at www.stb.gov.

Decided: May 17, 2024.
By the Board, Scott M. Zimmerman, Acting Director, Office of Proceedings.
Kenyatta Clay,
Clearance Clerk.

[FR Doc. 2024-11238 Filed 5-21-24; 8:45 am]

BILLING CODE 4915-01-P